DEPARTMENT OF COMMERCE

Census Bureau

Proposed Information Collection; Comment Request; Age Search Service

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before December 7, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Cleo Henderson, U.S. Census Bureau, National Processing Center, Jeffersonville, Indiana 47132; phone: (812) 218-3434; or: cleo.henderson@census.gov.

SUPPLEMENTARY INFORMATION:

I. Abstract

Age Search is a service provided by the U.S. Census Bureau for persons who need official transcripts of personal data as proof of age for pensions, retirement plans, medicare, and social security. The transcripts are also used as proof of citizenship to obtain passports or to provide evidence of family relationship for rights of inheritance. The Age Search forms are used by the public in order to provide the Census Bureau with the necessary information to conduct a search of historical population decennial census records in order to provide the requested transcript. The Age Search service is self-supporting and is funded by the fees collected from the individuals requesting the service.

II. Method of Collection

The Form BC-600, Application for Search of Census Records, is a public use form that is submitted by applicants requesting information from the decennial census records. Applicants are requested to enclose the appropriate fee by check or money order with the completed and signed Form BC-600 or BC-600sp and return by mail to the U.S. Census Bureau, Post Office Box 1545, Jeffersonville, Indiana 47131. The Form BC-649 (L), which is called a “Not Found”, advises the applicant that the search for information from the census records was unsuccessful. The BC-658 (L) is sent to the applicant when insufficient information has been received on which to base a search of the census records. These two forms request additional information from the applicant to aid in the search of census records.

III. Data

OMB Control Number: 0607- 0117.

Form Numbers: BC-600, BC-649(L), BC-658(L).

Type of Review: Extension of a currently approved collection.

Affected Public: Individuals or households.

Estimated Number of Respondents: 3,479 Total.

BC-600 2,070.

BC-649(L) 396.

BC-658(L) 17.

Estimated Time per Response:

BC-600 12 minutes.

BC-649(L) 6 minutes.

BC-658(L) 6 minutes.

Estimated Total Annual Burden Hours: 456.

Estimated Total Annual Cost: The Age Search processing fee is $65.00 per case. An additional charge of $20 per case for expedited requests requiring results within one day is also available.

Respondent's Obligation: Required to obtain or retain benefits.

Legal Authority: Title 13 U.S.C., section 8.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology .

Comments submitted in response to this notice will be summarized and/or included in the request for OMB approval of this information collection; they also will become a matter of public record.

Dated: October 2, 2015.
Glenna Mickelson,
Management Analyst, Office of the Chief Information Officer.

[FR Doc. 2015-25493 Filed 10-6-15; 8:45 am]

BILLING CODE 3510-07-P